PRESIDIO TRUST

Notice of Public Meeting

AGENCY: The Presidio Trust.

ACTION: Notice of public meeting.

SUMMARY: In accordance with § 103(c)(6) of the Presidio Trust Act, 16 U.S.C. 460bb note, Title I of Pub. L. 104-333, 110 Stat. 4097, and in accordance with the Presidio Trust's bylaws, notice is hereby given that a public meeting of the Presidio Trust Board of Directors will be held from 6 p.m. to 9 p.m. on Tuesday, May 21, 2002, at the Officers' Club, 50 Moraga Avenue, Presidio of San Francisco, California. The Presidio Trust was created by Congress in 1996 to manage approximately eighty percent of the former U.S. Army base known as the Presidio, in San Francisco, California.

The purposes of this meeting are to: (1) Receive a staff report regarding the Presidio Trust Management Plan, Land Use Policies for Area B of The Presidio of San Francisco, including a summary of plan contents and changes incorporated based on public comments on the draft plan known as the Draft Presidio Trust Implementation Plan and the associated Draft Environmental Impact Statement; (2) receive a staff report and take action regarding recognition of key staff members involved in the planning process; and (3) receive public comment in accordance with the Trust's Public Outreach Policy.

TIME: The meeting will be held from 6 p.m. to 9 p.m. on Tuesday, May 21, 2002.

ADDRESSES: The meeting will be held at the Officers' Club, 50 Moraga Avenue, Presidio of San Francisco.

FOR FURTHER INFORMATION CONTACT: Karen Cook, General Counsel, the Presidio Trust, 34 Graham Street, P.O. Box 29052, San Francisco, California 94129-0052, Telephone: (415) 561-5300.

Dated: April 22, 2002.
Karen A. Cook,
General Counsel.

[FR Doc. 02-10272 Filed 4-25-02; 8:45 am]

BILLING CODE 4310-4R-P